DEPARTMENT OF COMMERCE

National Oceanic and Atmospheric Administration

[I.D. 062105C]

Endangered and Threatened Species; Take of Anadromous Fish

AGENCY: National Marine Fisheries Service (NMFS), National Oceanic and Atmospheric Administration (NOAA), Commerce.

ACTION: Receipt of applications for two scientific research/enhancement permits (1534 and 1539) and request for comment.

SUMMARY: Notice is hereby given that NMFS has received applications to grant permits to (Permit 1534), Rowdy Creek Fish Hatchery, Smith River, CA (Permit 1539), Siskiyou Resource Conservation District (RCD), Etna, CA. These permits would affect Southern Oregon/Northern California Coast (SONCC) coho salmon (Oncorhynchus kisutch). This document serves to notify the public of the availability of the permit application for review and comment before a final approval or disapproval is made by NMFS.

DATES: Written comments on the permit application must be received at the appropriate address or fax number (see ADDRESSES) no later than 5 p.m. Daylight Savings Time on August 8, 2005.

ADDRESSES: Written comments on any of these renewal and modification request should be sent to the appropriate office as indicated here. Comments may also be sent via fax to the number indicated for the request. Comments will not be accepted if submitted via e-mail or the Internet. The applications and related documents are available for review in the indicated office, by appointment: For Permits 1534 and 1539: Steve Liebhardt, Protected Species Division, NOAA Fisheries, 1655 Heindon Road, Arcata, CA 95521 (ph: 707-825-5186, fax: (707-825-4840).

FOR FURTHER INFORMATION CONTACT: Steve Liebhardt at phone number (707-825-5186), or e-mail: steve.liebhardt@noaa.gov

SUPPLEMENTARY INFORMATION:

Authority

Issuance of permits, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the following threatened salmonid ESU: SONCC coho salmon (Oncorhynchus kisutch).

Permit Requests Received

Permit 1534

Siskiyou Resource Conservation District (RCD) has requested a Permit 1534 for take of juvenile SONCC coho salmon, to determine the timing of salmonid migration from tributaries to the Scott River Mainstem for winter rearing and/or out-migration. Additionally, trapping will allow for the study of fish condition, population estimates, and participation in cooperative studies with downstream trapping programs. RCD proposes to use in-stream trapping as the method of capture. RCD has requested non-lethal take of 3,530 juvenile SONCC coho salmon. Permit 1534 will expire August 1, 2006.

Permit 1539

The Rowdy Creek Fish Hatchery has requested a Permit 1539 for take of SONCC coho salmon, in the Klamath River (Rowdy Creek). The Rowdy Creek Fish Hatchery proposes to capture adult salmon and steelhead by an in-stream weir. Rowdy Creek Fish Hatchery has requested non-lethal take of up to: 50 adult SONCC coho salmon. Permit 1539 will expire March 1, 2015.

Dated: June 30, 2005.
P. Michael Payne,
Acting Division Chief, Endangered Species Division, Office of Protected Resources, National Marine Fisheries Service.

[FR Doc. 05-13393 Filed 7-6-05; 8:45 am]

BILLING CODE 3510-22-S